INTERNATIONAL TRADE COMMISSION

[Investigation No. 337-TA-661]

Certain Semiconductor Chips Having Synchronous Dynamic Random Access Memory Controllers and Products Containing Same; Determination Rescinding the Exclusion Order and Cease and Desist Orders

AGENCY: U.S. International Trade Commission.

ACTION: Notice.

SUMMARY: Notice is hereby given that the U.S. International Trade Commission has determined to rescind the exclusion order and cease and desist orders issued in the above-captioned investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 10, 2008, based on a complaint filed by Rambus Inc. of Los Altos, California (“Rambus”), alleging a violation of section 337 in the infringement of certain patents. 73 FR 75131. The principal respondent was NVIDIA Corporation of Santa Clara, California (“NVIDIA”). Joining NVIDIA as respondents were approximately twenty of NVIDIA's customers. The Commission found a violation of section 337 by reason of the infringement of some of the asserted patents, and on July 26, 2010, the Commission issued a limited exclusion order. 75 FR 44989-90 (July 30, 2010). The Commission also issued cease and desist orders against those respondents who maintained significant inventory of the accused products in the United States: NVIDIA; Hewlett-Packard Co. of Palo Alto, California; ASUS Computer International, Inc. of Peitou Taipei, Taiwan; Palit Multimedia Inc. of Ontario, Canada; Palit Microsystems Ltd. of Taipei, Taiwan; MSI Computer Corp. of City of Industry, California; Micro-Star International of Taipei, Taiwan; EVGA Corp. of Brea, California; DiabloTek, Inc. of Alhambra, California; Biostar Microtech Corp. of City of Industry, California; and BFG Technologies, Inc. of Lake Forest, Illinois. Id. The parties appealed the Commission determination to the U.S. Court of Appeals for the Federal Circuit.

Rambus and NVIDIA have since settled their patent dispute, and on February 10, 2012, jointly moved to rescind the Commission's remedial orders on the basis of settlement. No oppositions were filed. In addition, on April 3, 2012, the court of appeals dismissed the last-remaining appeal of the Commission determination, in an order that remanded the appeal “to the ITC with instructions to vacate the exclusion orders at issue in this appeal.” Order at 3.

The Commission has determined to rescind the exclusion order and cease and desist orders.

The authority for the Commission's determination is contained in section 337 of the Tariff Act of 1930, as amended (19 U.S.C. 1337), and in section 210.76 of the Commission's Rules of Practice and Procedure (19 CFR 210.76).

By order of the Commission.
Issued: May 1, 2012.
James R. Holbein,
Secretary to the Commission.

[FR Doc. 2012-10834 Filed 5-4-12; 8:45 am]

BILLING CODE 7020-02-P